DEPARTMENT OF JUSTICE

Office of Community Oriented Policing Services; Agency Information Collection Activities: Proposed Collection; Comment Request

ACTION: Notice of information collection under review; extension of a currently approved collection; National Center for Victims of Crime: Service referral questionnaire.

The Department of Justice, Office of Community Oriented Policing Services, has submitted the following information collection request for review and clearance in accordance with the Paperwork Reduction Act of 1995. Office of Management and Budget approval is being sought for the information collection listed below. This proposed information collection was previously published in the Federal Register on March 14, 2000 (Volume 65, page 13791-13792), allowing for a 60-day public comment period.

The purpose of this notice is to allow an additional 30 days for public comments from the date listed at the top of this page in the Federal Register. This process is conducted in accordance with 5 Code of Federal Regulation, part 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Deputy Clearance Officer, Suite 1220, 1331 Pennsylvania Avenue, NW., Washington, DC 20530.

Written comments and suggestions from the public and affected agencies should address one or more of the following points:

(1) evaluate whether the proposed collection of information is necessary for the proper performance of the functions of the agency/component, including whether the information will have practical utility;

(2) evaluate the accuracy of the agency's/component's estimate of the burden on the proposed collection of information, including the validity of the methodology and assumptions used;

(3) enhance the quality, utility, and clarity of the information to be collected; and

(4) minimize the burden of the collection of information on those who are to respond, including through the use of appropriate automated, electronic, mechanical, or other technological collection techniques or other forms of information technology, e.g., permitting electronic submission of responses.

Overview of the Information Collection is Listed Below

(1) Type of information collection. Extension of a currently approved collection.

(2) The title of the form/collection. National Center for Victims of Crime: Service Referral Questionnaire.

(3) The agency form number, if any, and the applicable component of the Department sponsoring the collection: Form: COPS PPSE/02. Office of Community Oriented Policing Services, United States Department of Justice.

(4) Affected public who will be asked or required to respond, as well as a brief abstract: Approximately 10,000 victims' services organizations nationwide will be asked to respond. The Service Referral Questionnaire will allow the National Center for Victims of Crime (NCVC) to collect information on agency name, contact information, types of services provided to crime victims, types of crime victims primarily served by the organization, and to request permission to allow the NCVC to include the listing in its service database on its website.

NCVC will use the information collected to provide referral assistance to victims of crime who request information via the telephone through a toll-free number, e-mail, general mail and the NCVC website.

(5) An estimate of the total number of respondents and the amount of time estimated for an average respondent to respond: Surveys will be administered by telephone to approximately 10,000 victims' service organizations nationwide. The survey will also be available to respondents on the NCVC website to allow on-line completion. Administrative preparation and survey completion will take approximately 0.25 hours per respondent (there is no record keeping burden for this collection).

(6) An estimate of the total public burden (in hours) associated with the collection: Approximately 2,500 hours.

Public comment on this proposed information collection is strongly encouraged.

Dated: September 29, 2000.
Brenda E. Dyer,
Department Deputy Clearance Officer, Department of Justice.

[FR Doc. 00-25521 Filed 10-4-00; 8:45 am]

BILLING CODE 4410-AT-M